DEPARTMENT OF ENERGY

Federal Energy Regulatory Commission

[Docket No. RC11-6-019]

North American Electric Reliability Corporation; Notice of Staff Review of Enforcement Programs

Pursuant to section 215 of the Federal Power Act,¹ Commission staff coordinated with the staff of the North American Electric Reliability Corporation (NERC) to conduct the annual oversight of the Find, Fix, Track and Report (FFT) program, as outlined in the March 15, 2012 Order,² and the Compliance Exception (CE) Program, as proposed by NERC's September 18, 2015 annual Compliance Filing and accepted by delegated letter order.³

¹ 16 U.S.C. 824o(e).

² N. Am. Elec. Reliability Corp., 138 FERC ¶ 61,193, at P 73 (2012) (FFT Order) (discussing Commission plans to survey a random sample of FFTs submitted each year to gather information on how the FFT program is working).

³ N. Am. Elec. Reliability Corp., Docket No. RC11-6-004, at 1 (Nov. 13, 2015) (delegated letter order) (accepting NERC's proposal to combine the evaluation of CEs with the annual sampling of FFTs).

Commission staff reviewed a sample of 32 of 232 FFTs and 33 of 1,089 CEs submitted by NERC between October 2023 and September 2024.

Commission staff found that the FFT and CE programs are meeting the Commission's expectations in accordance with the FFT Order. All 65 FFTs and CEs have been adequately remediated, and the root cause of each noncompliance was clearly identified. Commission staff also reviewed the supporting information for these FFTs and CEs and agreed with the final risk determinations for all 65 noncompliances, which clearly identified the factors affecting the risk prior to mitigation (such as potential and actual risk) and actual harm. Further, no FFTs or CEs sampled contained any material misrepresentations by the registered entities. Commission staff found that the Regional Entities appropriately identified all 65 of the sampled noncompliances as appropriate to be processed as FFTs and CEs.

Dated: August 29, 2025.
Debbie-Anne A. Reese,
Secretary.

[FR Doc. 2025-16958 Filed 9-3-25; 8:45 am]

BILLING CODE 6717-01-P